DEPARTMENT OF TRANSPORTATION

Federal Aviation Administration

14 CFR Part 71

[Docket No. FAA-2023-1004; Airspace Docket No. 23-ASO-18]

RIN 2120-AA66

Amendment of Class E Airspace; Greenville, NC

AGENCY: Federal Aviation Administration (FAA), DOT.

ACTION: Final rule; technical amendment.

SUMMARY: This action amends Class E surface area airspace for the Pitt-Greenville Airport, NC, and Class E airspace extending upward from 700 feet above the surface for the Greenville, NC, area in support of an instrument approach procedure designed for the ECU Health Medical Center Heliport. This action reissues the Class E airspace amendment information contained in the rule published for Docket No. FAA-2023-1004. It includes the legal authority information which provides the regulatory basis for the Class E airspace amendment actions that was inadvertently omitted in that rule.

DATES: Effective 0901 UTC on June 13, 2024. The Director of the Federal Register approves this incorporation by reference action under 1 CFR part 51, subject to the annual revision of FAA Order JO 7400.11 and publication of conforming amendments.

ADDRESSES: This final rule may be viewed online at www.regulations.gov using the FAA Docket number. Electronic retrieval help and guidelines are available on the website. It is available 24 hours a day, 365 days a year.

FAA Order JO 7400.11H, Airspace Designations, and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Justin T. Rhodes, Operations Support Group, Eastern Service Center, Federal Aviation Administration, 1701 Columbia Avenue, College Park, GA 30337; telephone: (404) 305-5478.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends and establishes Class E airspace in the Greenville, NC, area to support Instrument Flight Rule (IFR) operations.

History

The FAA published a final rule for Docket No. FAA-2023-1004 in the Federal Register (88 FR 54227; August 10, 2023; later corrected September 26, 2023 (88 FR 65797) effective October 5, 2023) amending the Class E surface area airspace and the Class E airspace extending upward from 700 feet above the surface for the Greenville, NC, area. In that rule, the legal authority information was inadvertently omitted.

The FAA is resissuing the final rule for the Class E airspace amendment actions previously published in the rule for Docket No. FAA-2023-1004 to include the legal authority information inadvertently omitted in that rule and provide the regulatory basis for the Class E airspace amendment actions in the Greenville, NC, area.

Incorporation by Reference

Class E airspace designations are published in paragraphs 6002 and 6005 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by amending the Class E surface area airspace for the Pitt-Greenville Airport, Greenville, NC, by increasing the radius to 4.6 miles (previously 4.4 miles) and replacing the outdated term Notice to Airmen with Notice to Air Missions. Additionally, this action amends the Greenville, NC, Class E airspace extending upward from 700 feet above the surface by increasing the radius to 7.1 miles (previously 6.4 miles) of the Pitt-Greenville Airport, establishing an extension 1.1 miles each side of the Pitt-Greenville Airport 008° bearing extending from the 7.1-mile radius to 13.4 miles northeast of the airport and establishing Class E airspace extending upward from 700 feet above the surface within a 6.2-mile radius of the ECU Health Medical Center.

This rule is an administrative action that reissues the Class E airspace amendment information contained in the rule for Docket No. FAA-2023-1004, published previously, and includes the legal authority information inadvertently omitted in that rule which provides the regulatory basis for the Class E airspace amendment actions; therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6002 Class E Airspace Areas Designated as Surface Areas.

* * * * *

ASO NC E2 Greenville, NC [Amended]

Pitt-Greenville Airport, NC

(Lat 35°38′09″ N, long 77°23′03″ W)

That airspace extending upward from the surface within a 4.6-mile radius of Pitt-Greenville Airport. This Class E airspace area is effective during the specific dates and times established in advance by a Notice to Air Missions. The effective date and time will thereafter be continuously published in the Chart Supplement.

* * * * *

Paragraph 6005 Class E Airspace Areas Extending Upward From 700 Feet or More Above the Surface of the Earth.

* * * * *

ASO NC E5 Greenville, NC [Amended]

Pitt-Greenville Airport, NC

(Lat 35°38′09″ N, long 77°23′03″ W)

ECU Health Medical Center Heliport

(Lat 35°36′32″ N, long 77°24′19″ W)

That airspace extending upward from 700 feet above the surface within a 7.1-mile radius of the Pitt-Greenville Airport and 1.1 miles on each side of the Pitt-Greenville Airport 008° bearing extending from the 7.1-mile radius of the airport to 13.4 miles northeast of the airport, and that airspace extending upward from 700 feet above the surface within a 6.2-mile radius of the ECU Health Medical Center Heliport.

* * * * *

Issued in College Park, Georgia, on April 18, 2024.
Patrick Young,
Manager, Airspace & Procedures Team North, Eastern Service Center, Air Traffic Organization.

[FR Doc. 2024-08883 Filed 6-12-24; 8:45 am]

BILLING CODE 4910-13-P